DEPARTMENT OF EDUCATION

34 CFR Chapter III

[ED-2019-OSERS-0044]

Proposed Waiver and Extension of the Project Period for Various Grants That Provide Technical Assistance on Transition

AGENCY: Office of Special Education and Rehabilitative Services (OSERS), Department of Education.

ACTION: Proposed waiver and extension of project periods.

SUMMARY: The Secretary proposes to waive the requirements in the Education Department General Administrative Regulations that generally prohibit project periods exceeding five years and project period extensions involving the obligation of additional Federal funds. The proposed waiver and extension would enable 33 projects under CFDA numbers 84.326E, 84.328M, 84.235F and 84.235G to receive funding for an additional period, not to exceed September 30, 2020.

DATES: We must receive your comments on or before July 8, 2019.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to use Regulations.gov” in the Help section.

• Postal Mail, Commercial Delivery, or Hand Delivery: If you mail or deliver your comments about the proposed priority and requirements, address them as follows:

For the National Technical Assistance Center on Improving Transition to Postsecondary Education and Employment for Students with Disabilities, CFDA number 84.326E, to Selete Avoke, U.S. Department of Education, 400 Maryland Avenue SW, Room 5002, Potomac Center Plaza, Washington, DC 20202-5076 or to Kristen Rhinehart-Fernandez, U.S. Department of Education, 400 Maryland Avenue SW, Room 5094, Potomac Center Plaza, Washington, DC 20202-5076;

For the OSEP-funded Parent Training and Information Centers, CFDA number 84.328M, to Carmen Sanchez, U.S. Department of Education, 400 Maryland Avenue SW, Room 5162, Potomac Center Plaza, Washington, DC 20202-5076; and

For the RSA-funded Parent Information and Training Centers, CFDA number 84.235F and the National Technical Assistance for Parent Information and Training Centers, CFDA number 84.235G, to Tara Jordan, U.S. Department of Education, 400 Maryland Avenue SW, Room 5058E, Potomac Center Plaza, Washington, DC 20202-5076.

Privacy Note: The Department's policy is to make all comments received from members of the public available for public viewing in their entirety on the Federal eRulemaking Portal at www.regulations.gov. Therefore, commenters should be careful to include in their comments only information that they wish to make publicly available.

FOR FURTHER INFORMATION CONTACT: For the National Technical Assistance Center on Improving Transition to Postsecondary Education and Employment for Students with Disabilities, CFDA number 84.326E, contact Selete Avoke, U.S. Department of Education, 400 Maryland Avenue SW, Room 5002, Potomac Center Plaza, Washington, DC 20202-5076. Telephone: 202-245-7260. Email: Selete.Avoke@ed.gov. Or contact Kristen Rhinehart-Fernandez, U.S. Department of Education, 400 Maryland Avenue SW, Room 5094, Potomac Center Plaza, Washington, DC 20202-5076. Telephone: 202-245-6103. Email: Kristen.Rhinehart@ed.gov.

For the OSEP-funded Parent Training and Information Centers, CFDA number 84.328M, contact Carmen Sanchez, U.S. Department of Education, 400 Maryland Avenue SW, Room 5162, Potomac Center Plaza, Washington, DC 20202-5076. Telephone: 202-245-6595. Email: Carmen.Sanchez@ed.gov; and

For the RSA-funded Parent Information and Training Centers, CFDA number 84.235F, and the National Technical Assistance for Parent Training and Information Centers, CFDA number 84.235G, contact Tara Jordan, U.S. Department of Education, 400 Maryland Avenue SW, Room 5058E, Potomac Center Plaza, Washington, DC 20202-5076. Telephone: 202-245-7341. Email: Tara.Jordan@ed.gov.

If you use a telecommunications device for the deaf (TDD) or a text telephone (TTY), call the Federal Relay Service (FRS), toll free, at 1-800-877-8339.

SUPPLEMENTARY INFORMATION:

Invitation to Comment: We invite you to submit comments regarding this proposed waiver and extension. To ensure that your comments have maximum effect in developing the final waiver and extension, we urge you to identify clearly the specific grant or grants that each comment addresses.

We invite you to assist us in complying with the specific requirements of Executive Orders 12866, 13563, and 13771 and their overall requirement of reducing regulatory burden that might result from these proposed waivers and extensions. Please let us know of any further ways we could reduce potential costs or increase potential benefits while preserving the effective and efficient administration of the program.

During and after the comment period, you may inspect all public comments about this proposed waiver and extension of the project period in Room 5059, 550 12th Street SW, Washington, DC, between the hours of 8:30 a.m. and 4:00 p.m., Washington, DC time, Monday through Friday of each week, except Federal holidays.

Assistance to Individuals with Disabilities in Reviewing the Rulemaking Record: On request, we will provide an appropriate accommodation or auxiliary aid to an individual with a disability who needs assistance to review the comments or other documents in the public rulemaking record for this proposed waiver and extension. If you want to schedule an appointment for this type of aid, please contact the person listed under FOR FURTHER INFORMATION CONTACT.

Background

We are proposing to extend 33 projects under three programs in order to align and coordinate all OSERS-funded training and technical assistance (TA) services focused on transition-age children and youth with disabilities and their families. The waivers and extensions would allow OSERS to align and coordinate, and improve the efficiency and cost-effectiveness of, direct training and technical assistance services focused on transition-age children and youth with disabilities and their families. In addition, the Department will consider approaches for improving coordination among programs that provide these services to more efficiently and effectively meet the needs of States, service providers, youth with disabilities, and families and to allow for efficient use of the funding available to support these activities.

The projects that provide transition-age TA services (and other TA services for individuals with disabilities and their families) are:

The National Technical Assistance Center on Improving Transition to Postsecondary Education and Employment for Students With Disabilities (NTACT) (CFDA 84.326E)

In September 2014, OSEP and RSA jointly made a 60-month award to the University of North Carolina at Charlotte to establish and operate the National Technical Assistance Center on Improving Transition to Postsecondary Education and Employment for Students with Disabilities. NTACT was funded under the TA and Dissemination Program as authorized under sections 663 and 681(d) of the Individuals with Disabilities Education Act (IDEA), 20 U.S.C. 1463 and 1481(d), and section 303(b) of the Rehabilitation Act of 1973, as amended by the Workforce Innovation and Opportunity Act (Rehabilitation Act), 29 U.S.C 793(b). The current project period ends on December 31, 2019.

The purpose of the NTACT is to provide TA to State educational agencies (SEAs), local education agencies (LEAs), State vocational rehabilitation agencies (SVRAs), and other vocational rehabilitation (VR) service providers to implement evidence-based and promising practices and strategies to ensure that students with disabilities, including those with significant disabilities, graduate from high school with the knowledge, skills, and supports needed for success in postsecondary education and employment.

Specifically, NTACT has five primary goals aligned with OSEP and RSA priorities:

1. Youth and young adults with disabilities receive and participate in evidence-based and promising practices in secondary transition services and supports.

2. SEAs and LEAs implement evidence-based and promising practices and strategies, including early warning and intervention systems to reduce dropout and increase graduation rates.

3. Students with disabilities participate in career-related curricula so they are prepared for postsecondary employment and careers.

4. Students with disabilities receive rigorous academic preparation so they are prepared for success in postsecondary education.

5. SEAs, SVRAs, LEAs, and local VR offices use data-driven decision making to develop their respective plans and reports.

OSEP-Funded Parent Training and Information Centers (CFDA 84.328M)

In September 2014, OSEP made twenty-three 60-month awards to the following entities to operate Parent Training and Information Centers (PTIs):

Center | State
Raising Special Kids, Inc | AZ
Advocates for Justice and Education, Inc | DC
Parent Information Center of Delaware, Inc | DE
Learning Disabilities Association of Hawaii | HI
Access for Special Kids Resource Center, Inc | IA
Idaho Parents Unlimited, Inc | ID
Indiana Resource Center for Families with Special Needs | IN
Families Helping Families of Greater New Orleans | LA
Federation for Children with Special Needs, Inc | MA
PACER Center, Inc | MN
Missouri Parents Act (MPACT) | MO
Mississippi Coalition for Citizens with Disabilities | MS
Exceptional Children's Assistance Center, Inc | NC
NH Coalition for Citizens with Disabilities | NH
Oklahoma Parents Center, Inc | OK
Parent Education and Advocacy Leadership Center | PA
Rhode Island Parent Information Network | RI
South Dakota Parent Connection, Inc | SD
Support & Training for Exceptional Parents, Inc | TN
Parent Educational Advocacy Training Center | VA
PAVE | WA
WVPTI, Inc | WV
Parents Helping Parents of Wyoming, Inc | WY

In June 2016, OSEP made a 36-month award to Learning Disabilities Associates of Hawaii to operate a PTI to serve the outlying areas and freely associated States in the Pacific (American Samoa, the Federated States of Micronesia, Guam, the Republic of the Marshall Islands, the Commonwealth of the Northern Mariana Islands, and the Republic of Palau).

All 24 of the OSEP-funded PTIs are funded under the Training and Information for Parents of Children with Disabilities program as authorized under section 671 and 681(d) of IDEA, 20 U.S.C. 1463, and all current project periods end on September 30, 2019.

The purpose of the OSEP-funded PTIs is to provide services designed to meet the information and training needs of parents of children with disabilities, and transition-age youth with disabilities. The OSEP-funded PTIs were funded to help youth become effective self-advocates and provide parents with information, individual assistance, and training to enable them to: (a) Ensure that their children are included in general education classrooms and extracurricular activities with their peers; (b) help their children meet developmental and academic goals; (c) help their children meet challenging expectations established for all children, including college- and career-ready academic standards; and (d) prepare their children to achieve positive postsecondary outcomes that lead to lives that are as productive and independent as possible.

Specifically, the OSEP-funded PTIs (a) inform parents of children with disabilities and youth with disabilities of how they can benefit from the services provided by the PTI; (b) provide high-quality services that increase parents' capacity to help their children with disabilities improve their early learning, school-aged, and postsecondary outcomes and increase youth's capacity to be effective self-advocates; and (c) work in partnership with any Community Parent Resource Centers (CPRCs) and any other PTIs funded in the State under sections 672 and 671 of IDEA, respectively, and local, State, and national organizations and agencies, such as protection and advocacy agencies and VR agencies, that serve children and youth with disabilities and their families.

RSA-Funded Parent Information and Training Centers (CFDA 84.235F)

In September 2014, RSA made seven 60-month awards to the following entities to operate RSA-funded Parent Information and Training Centers (PTIs):

Center | State
PEAK Parent Center | CO.
Statewide Parent Advocacy Network | NJ.
Open Doors for Multicultural Families | WA.
Federation for Children with Special Needs, Inc | MA.
Resources for Children with Special Needs, Inc | NY.
PACER Center Inc | MN.
Missouri Parents Act MPACT | MO.

These RSA-funded PTIs are funded under the Parent Information and Training Program as authorized under section 303(c) of the Rehabilitation Act. The current project periods end on September 30, 2019.

These RSA-funded PTIs are designed to meet the unique training and information needs of those individuals who live in the areas to be served, particularly those who are members of populations that have been unserved or underserved by programs under the Rehabilitation Act. The RSA-funded PTIs are geographically distributed to the extent possible throughout the country. The RSA-funded PTIs coordinate and work closely with the OSEP-funded PTIs and with the centers for independent living.

The RSA-funded PTIs provide information and training to individuals with disabilities and their parents, family members, guardians, advocates, and other authorized representatives. Specifically, the RSA-funded PTIs help individuals with disabilities and their families to: (a) Better understand VR and independent living programs and services; (b) provide follow-up support for transition services and employment programs; (c) communicate effectively with transition and rehabilitation personnel and other relevant professionals; (d) provide support in the development of individualized plans for employment; (e) provide support and expertise in obtaining information about rehabilitation and independent living programs, services, and resources that are appropriate; and (f) understand the provisions of the Rehabilitation Act, particularly provisions relating to employment, supported employment, and independent living.

National Technical Assistance for Parent Information and Training Centers (84.235G)

In September 2014, RSA made one 60-month award to the Statewide Parent Advocacy Network (SPAN), New Jersey to establish and operate the national PTI TA center. The center is funded under the Parent Information and Training Program as authorized by section 303(c) of the Rehabilitation Act. The current project period ends on September 30, 2019.

The purpose of the national PTI TA Center is to ensure that the seven State-level PTI centers funded by RSA are providing consistent information and training to assist individuals with disabilities and their families, including youth with disabilities who are of transition age, achieve their employment and independent living goals.

The national PTI TA Center also disseminates information on promising and evidence-based practices that lead to high-quality employment outcomes and independent living for individuals with disabilities; shares strategies for communicating effectively with individuals from culturally, ethnically, and linguistically diverse backgrounds; and coordinates the seven State-level PTI centers funded by RSA and the PTI centers funded by OSEP in disseminating information and training materials on transition services, VR, supported employment, independent living, and career development.

Waivers and Extensions

We do not believe that it would be in the public interest to run competitions for these programs in FY 2019, because the Department is reviewing the alignment of its training and TA services focused on transition from high school to college, careers, and adult services for children and youth with disabilities and their families. During the remainder of FY 2019 the Department will consider approaches for improving coordination among programs that provide these services to more efficiently and effectively meet the needs of States, service providers, youth with disabilities, and their families and to allow for more efficient use of the funding available to support these activities.

The Department has also concluded that it would not be in the public interest to have a lapse in the critically needed resources currently provided by these programs. Allowing funding to lapse before the Department establishes a new, coordinated strategy for training and TA services would leave youth and families without access to critical services and assistance that ensure that students with disabilities, including those with significant disabilities, transition from K-12 prepared for postsecondary success.

For these reasons, the Secretary proposes to waive the requirements in 34 CFR 75.250, which prohibit project periods exceeding five years, and the requirements in 34 CFR 75.261(a) and (c)(2), which allow the extension of a project period only if the extension does not involve the obligation of additional Federal funds. The waiver would allow the Department to issue one-time FY 2019 continuation awards to the projects originally funded in FY 2014 and 2016, estimated as follows.

CFDA | Recipient | Amount
84.235F | PEAK Parent Center | $130,933
84.235F | Statewide Parent Advocacy Network | 130,933
84.235F | Open Doors for Multicultural Families | 130,845
84.235F | Federation for Children with Special Needs, Inc | 130,886
84.235F | Resources for Children with Special Needs, Inc | 130,309
84.235F | PACER Center Inc | 130,000
84.235F | Missouri Parents Act MPACT | 130,929
84.235G | Statewide Parent Advocacy Network | 250,000
84.326E | University of North Carolina | 300,000
84.328M | Raising Special Kids, Inc | 392,365
84.328M | Advocates for Justice and Education, Inc | 200,000
84.328M | Parent Information Center of Delaware, Inc | 200,000
84.328M | Learning Disabilities Association of Hawaii (Hawaii PTI) | 200,000
84.328M | Access for Special Kids Resource Center, Inc | 201,543
84.328M | Idaho Parents Unlimited, Inc | 200,000
84.328M | Indiana Resource Center for Families with Special Needs | 399,970
84.328M | Families Helping Families of Greater New Orleans | 290,932
84.328M | Federation for Children with Special Needs, Inc | 346,661
84.328M | PACER Center, Inc | 307,684
84.328M | Missouri Parents Act (MPACT) | 358,058
84.328M | Mississippi Coalition for Citizens with Disabilities | 213,590
84.328M | Exceptional Children's Assistance Center, Inc | 590,453
84.328M | NH Coalition for Citizens with Disabilities | 200,000
84.328M | Oklahoma Parents Center, Inc | 236,936
84.328M | Parent Education and Advocacy Leadership Center | 695,235
84.328M | Learning Disabilities Association of Hawaii (Pacific PTI) | 200,000
84.328M | Rhode Island Parent Information Network | 200,000
84.328M | South Dakota Parent Connection, Inc | 200,000
84.328M | Support & Training for Exceptional Parents, Inc | 386,028
84.328M | Parent Educational Advocacy Training Center | 462,823
84.328M | PAVE | 384,480
84.328M | WVPTI, Inc | 200,000
84.328M | Parents Helping Parents of Wyoming, Inc | 200,000

Any activities carried out during the year of this continuation award must be consistent with the scope, goals, and objectives of the grantees' applications as approved in either the 2014 or 2016 competitions. The requirements for continuation awards are set forth in 34 CFR 75.253.

Regulatory Flexibility Act Certification

The Secretary certifies that the proposed waiver and extension of the project period would not have a significant economic impact on a substantial number of small entities. The only entities that would be affected by the proposed waiver and extension of the project period are the current grantees and any other potential applicants.

The Secretary certifies that the proposed waiver and extension would not have a significant economic impact on these entities because the extension of an existing project period imposes minimal compliance costs, and the activities required to support the additional year of funding would not impose additional regulatory burdens or require unnecessary Federal supervision.

Paperwork Reduction Act of 1995

This notice of proposed waiver and extension of the project period does not contain any information collection requirements.

Intergovernmental Review

These programs are subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available at www.govinfo.gov. At this site you can view this document, as well as all other documents of this Department published in the Federal Register, in text or Portable Document Format (PDF). To use PDF you must have Adobe Acrobat Reader, which is available free at the site. You may also access documents of the Department published in the Federal Register by using the article search feature at www.federalregister.gov. Specifically, through the advanced search feature at this site, you can limit your search to documents published by the Department.

Johnny W. Collett,
Assistant Secretary for Special Education and Rehabilitative Services.

[FR Doc. 2019-12016 Filed 6-6-19; 8:45 am]

BILLING CODE 4000-01-P